OFFICE OF PERSONNEL MANAGEMENT

5 CFR Part 532

RIN 3206-AL83

Prevailing Rate Systems; Redefinition of the New Haven-Hartford and New London, CT, Appropriated Fund Federal Wage System Wage Areas

AGENCY: U.S. Office of Personnel Management.

ACTION: Final rule.

SUMMARY: The U.S. Office of Personnel Management (OPM) is issuing a final rule to define the New Haven-Hartford and New London, CT, appropriated fund Federal Wage System (FWS) wage areas by county rather than by city and town boundaries. Defining the New England FWS wage areas by primarily considering county boundaries provides greater consistency in how OPM defines FWS wage areas and improves the ability to make direct data comparisons with Census Bureau data. The final rule defines the New Haven-Hartford wage area to include Hartford and New Haven Counties, CT, as the survey area and Fairfield, Litchfield, Middlesex, and Tolland Counties, CT, as the area of application and the New London wage area to include New London County, CT, as the survey area and Windham County, CT, as the area of application.

DATES: Effective Date: This regulation is effective on June 30, 2009.

Applicability date for the New Haven-Hartford, CT, wage area: This rule applies for the full-scale wage survey scheduled to begin in April 2011.

Applicability date for the New London, CT, wage area: This rule applies for the full-scale wage survey scheduled to begin in September 2010.

FOR FURTHER INFORMATION CONTACT: Madeline Gonzalez, (202) 606-2838; e-mail pay-performance-policy@opm.gov; or FAX: (202) 606-4264.

SUPPLEMENTARY INFORMATION: On March 24, 2009, the U.S. Office of Personnel Management (OPM) issued a proposed rule (74 FR 12280) to make the following three changes:

(1) Define the New Haven-Hartford and New London, CT, appropriated fund Federal Wage System wage areas by county rather than by city and town boundaries;

(2) Define the New Haven-Hartford wage area to include Hartford and New Haven Counties, CT, as the survey area and Fairfield, Litchfield, Middlesex, and Tolland Counties, CT, as the area of application; and

(3) Define the New London wage area to include New London County, CT, as the survey area and Windham County, CT, as the area of application.

These changes are based on consensus recommendations of the Federal Prevailing Rate Advisory Committee. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of Information, Government employees, Reporting and recordkeeping requirements, Wages.

John Berry,
Director, U.S. Office of Personnel Management.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of Connecticut is amended by revising the listings for New Haven-Hartford and New London; for the State of Massachusetts, by revising the listing for Central and Western Massachusetts; and for the State of Rhode Island, by revising the listing for Narragansett Bay, to read as follows:

Appendix C to Subpart B of Part 532—Appropriated Fund Wage and Survey Areas

* * * * *

Connecticut
New Haven-Hartford
Survey Area
Connecticut:
Hartford
New Haven
Area of Application. Survey area plus:
Connecticut:
Fairfield
Litchfield
Middlesex
Tolland
New London
Survey Area
Connecticut:
New London
Area of Application. Survey area plus:
Connecticut:
Windham
* * * * *
Massachusetts
* * * * *
Central and Western Massachusetts
Survey Area
Massachusetts:
The following cities and towns in:
Hampden County:
Agawam
Chicopee
East Longmeadow
Feeding Hills
Hampden
Holyoke
Longmeadow
Ludlow
Monson
Palmer
Southwick
Springfield
Three Rivers
Westfield
West Springfield
Wilbraham
Hampshire County:
Easthampton
Granby
Hadley
Northampton
South Hadley
Worcester County:
Warren
West Warren
Area of Application. Survey area plus:
Massachusetts:
Berkshire
Franklin
Worcester (except Blackstone and Millville)
The following cities and towns in:
Hampshire County:
Amherst
Belchertown
Chesterfield
Cummington
Goshen
Hatfield
Huntington
Middlefield
Pelham
Plainfield
Southampton
Ware
Westhampton
Williamsburg
Worthington
Hampden County:
Blandford
Brimfield
Chester
Granville
Holland
Montgomery
Russell
Tolland
Wales
Middlesex County:
Ashby
Shirley
Townsend
New Hampshire:
Belknap
Carroll
Cheshire
Grafton
Hillsborough
Merrimack
Sullivan
Vermont:
Addison
Bennington
Caledonia
Essex
Lamoille
Orange
Orleans
Rutland
Washington
Windham
Windsor
* * * * *
Rhode Island
Narragansett Bay
Survey Area
Rhode Island:
Bristol
Newport
The following cities and towns:
Kent County:
Anthony
Coventry
East Greenwich
Greene
Warwick
West Warwick
Providence County:
Ashton
Burrillville
Central Falls
Cranston
Cumberland
Cumberland Hill
East Providence
Esmond
Forestdale
Greenville
Harrisville
Johnston
Lincoln
Manville
Mapleville
North Providence
North Smithfield
Oakland
Pascoag
Pawtucket
Providence
Saylesville
Slatersville
Smithfield
Valley Falls
Wallum Lake
Woonsocket
Washington County:
Davisville
Galilee
Lafayette
Narragansett
North Kingstown
Point Judith
Quonset Point
Saunderstown
Slocum
Massachusetts:
The following cities and towns:
Bristol County:
Attleboro
Fall River
North Attleboro
Rehoboth
Seekonk
Somerset
Swansea
Westport
Norfolk County:
Caryville
Plainville
South Bellingham
Worcester County:
Blackstone
Millville
Area of Application. Survey area plus:
Rhode Island:
The following cities and towns in:
Kent County:
West Greenwich
Providence County:
Foster
Glocester
Scituate
Washington County:
Charlestown
Exeter
Hopkinton
New Shoreham
Richmond
South Kingstown
Westerly
Massachusetts:
The following cities and towns in:
Bristol County:
Acushnet
Berkley
Dartmouth
Dighton
Fairhaven
Freetown
Mansfield
New Bedford
Norton
Raynham
Taunton

* * * * *

[FR Doc. E9-15474 Filed 6-29-09; 8:45 am]

BILLING CODE 6325-39-P